DEPARTMENT OF HEALTH AND HUMAN SERVICES

Health Resources and Services Administration

Healthy Start Program

AGENCY: Health Resources and Services Administration, HHS.

ACTION: General notice.

Background: This notice supplements the 2008 HRSA announcement (HRSA 09-130 and 09-131) of the availability of fiscal year (FY) 2009 funding for new and competing continuation applications for Healthy Start. Healthy Start, authorized under Section 330H of the Public Health Service Act, strengthens communities to effectively address the causes of infant mortality, low birth weight and other poor perinatal outcomes for women and infants. Recently, new guidance became available with regard to funding FY 2009 Healthy Start programs.

SUMMARY: Following the Senate Appropriations Committee's recommendation, the Health Resources and Services Administration (HRSA) will give funding preference during the FY 2009 competition to current and former Healthy Start grantees with expiring or recently expired project periods.

This new guidance continues guidance from Congress that began in FY 2002. During the FY 2001 Healthy Start Initiative: Eliminating Disparities in Perinatal Health Open Competition, several grantees were approved but unfunded. Subsequently, Congress noted that the phasing out of these grants would cause a major disruption in services for pregnant women and infants in communities with high infant mortality and poor perinatal outcomes. For FY 2002, Congress, under The Consolidated Appropriations Act of 2002 (Pub. L. 107-116), Departments of Labor, Health and Human Services, and Education, and Related Agencies Appropriations Act, 2002, allocated additional funding for these grants but stipulated that these new funds were to be used to “give preference to current and former grantees with expiring or recently expired project periods, including grantees that did not receive funding but whose grant applications were approved but not funded during fiscal year 2001.” HRSA honored this request and funded the remaining approved unfunded grantee applicants in February 2002.

This preference language has continued in each Healthy Start competition since 2002. With the 2005 Healthy Start competition, Congress, through The Consolidated Appropriations Act (Pub. L. 108-447, HR 108-792), once again gave “preference to current and former grantees with expiring or recently expired project periods.” In 2006, the Conference report HR 109-200, accompanying the Departments of Labor, Health and Human Services, Education, and Related Agencies Appropriation Act, 2006, (Pub. L. 109-149, HR 109-300) continued the preference language. This year's FY 2009 Senate Appropriations Committee report states that “The healthy start initiative was developed to respond to persistently high rates of infant mortality in this Nation. The initiative was expanded in fiscal year 1994 by a special projects program, which supported an additional seven urban and rural communities to implement infant mortality reduction strategies and interventions. The Children's Health Act of 2000 fully authorized this initiative as an independent program. The Committee urges HRSA to give preference to current and former grantees with expiring or recently expired project periods.” (S. Rept. 110-410)

FOR FURTHER INFORMATION CONTACT: Maribeth Badura, Director, Division of Healthy Start and Perinatal Services, Maternal and Child Health Bureau, HRSA, Room 18-12, Parklawn Building, 5600 Fishers Lane, Rockville, Maryland 20857; telephone (301) 443-0543; e-mail MBadura@hrsa.gov.

Dated: April 21, 2009.
Marcia K. Brand,
Deputy Administrator.

[FR Doc. E9-9517 Filed 4-24-09; 8:45 am]

BILLING CODE 4165-15-P